DEPARTMENT OF DEFENSE

Department of the Army

Performance Review Boards Membership

AGENCY: Department of the Army, DoD.

ACTION: Notice.

SUMMARY: Notice is given of the names of members of the Performance Review Boards for the Department of the Army.

EFFECTIVE DATE: August 22, 2000.

FOR FURTHER INFORMATION CONTACT: Nancy Quick, U.S. Army Senior Executive Service Office, Assistant Secretary of the Army (Manpower and Reserve Affairs), 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Office of the Secretary of the Army are:

1. Eric A. Orsini, Deputy Assistant Secretary of the Army (Logistics), Office of the Assistant Secretary of the Army (Acquisition, Logistics and Technology);

2. Dr. Larry B. Stotts, Director for Technology, Office of the Assistant Secretary of the Army (Acquisition, Logistics and Technology);

3. Ms. Marie Therese Dominguez, Principal Deputy Assistant Secretary of the Army (Civil Works), Office of the Assistant Secretary of the Army (Civil Works);

4. Ms. Judith A. Guenther, Director of Investment, Office of the Assistant Secretary of the Army (Financial Management and Comptroller);

5. BG Hugh Tant, Director of Operations and Support, Office of the Assistant Secretary of the Army (Financial Management and Comptroller);

6. Mr. James T. Lipham, Special Assistant to the Assistant Secretary of the Army (Installations and Environment) for Residential Communities Initiative, Office of the Assistant Secretary of the Army (Installations and Environment);

7. Mr. Raymond J. Fatz, Deputy Assistant Secretary of the Army (Environment, Safety and Occupational Health), Office of the Assistant Secretary of the Army (Installations and Environment);

8. Mr. Paul W. Johnson, Deputy Assistant Secretary of the Army (Installations and Housing), Office of the Assistant Secretary of the Army (Installations and Environment);

9. Mr. Edward “Ray” Clark, Principal Deputy Assistant Secretary of the Army (Installations and Environment), Office of the Assistant Secretary of the Army (Installations and Environment);

10. Mr. Elmer F. Williams, Director of the Civilian Personnel Operations Center Management Agency, Office of the Assistant Secretary of the Army (Manpower and Reserve Affairs);

11. Mr. David L. Snyder, Deputy Assistant Secretary of the Army (Civilian Personnel Policy), Office of the Assistant Secretary of the Army (Manpower and Reserve Affairs);

12. Ms. Elizabeth Throckmorton, Assistant Deputy for Civilian Personnel Policy, Office of the Assistant Secretary of the Army (Manpower and Reserve Affairs);

13. Mr. Matt Reres, Deputy General Counsel (Ethics and Fiscal), Office of the General Counsel;

14. Mr. Earl H. Stockdale, Jr., Deputy General Counsel (Civil Works and Environment), Office of the General Counsel;

15. Ms. Miriam F. Browning, Director of Army Information, Office of the Director of Information Systems, Command, Control, Communications and Computers;

16. Mr. David Borland, Vice Director to the Director of Information Systems for Command, Control, Communications and Computers, Office of the Director of Information Systems, Command, Control, Communications and Computers;

17. Mr. Thomas Druzgal, Deputy Auditor General, Army Audit Agency;

18. Ms. Joyce Morrow, Director for Audit Policy Plans and Resources, Army Audit Agency;

19. Mr. Francis Reardon, The Auditor General, Army Audit Agency;

20. Mr. Craig D. Hunter, Director for International Development and Security Assistance, Office of the Deputy Under Secretary of the Army (International Affairs);

21. Mr. George C. Bruno, Special Assistant to the Deputy Under Secretary of the Army (International Affairs), Office of the Deputy Under Secretary of the Army (International Affairs);

22. Mr. J. Douglas Sizelove, Assistant Deputy Under Secretary of the Army (Operations Research), Office of the Deputy Under Secretary of the Army (Operations Research);

23. Dr. Robin Buckelew, Special Assistant for Systems, Office of the Deputy Under Secretary of the Army (Operations Research);

24. Dr. Thomas J. Welch, Associate Director for Science and Technology, Office of Net Assessment, National Defense University;

25. MG Warren L. Freeman, Director of the District of Columbia National Guard;

26. Ms. Tracey Pinson, Director, Office of Small and Disadvantaged Business Utilization;

27. Ms. Sandra R. Riley, Deputy Administrative Assistant, Office of the Administrative Assistant to the Secretary of the Army;

28. Ms. Kathryn A. Condon, Special Assistant for Resources and Military Support, Office of the Under Secretary of the Army;

29. Mr. Walter W. Hollis, Deputy Under Secretary of the Army (Operations Research), Office of the Deputy Under Secretary of the Army (Operations Research);

30. Mr. Joel B. Hudson, Administrative Assistant, Office of the Administrative Assistant to the Secretary of the Army; and

31. Mr. Frederick R. Budd, Director, Network Infrastructure Services Agency—Pentagon.

Gregory D. Showalter,
Army Federal Register Liaison Officer.

[FR Doc. 00-22218 Filed 8-30-00; 8:45 am]

BILLING CODE 3710-08-P